DEPARTMENT OF HEALTH AND HUMAN SERVICES

Administration for Children and Families

[Office of Management and Budget #: 0970-0248]

Proposed Information Collection Activity; Annual Report on Temporary Assistance for Needy Families Programs and State Maintenance-of-Effort Programs—ACF—204 (Annual TANF and MOE Report)

AGENCY: Office of Family Assistance, Administration for Children and Families, U.S. Department of Health and Human Services.

ACTION: Request for public comments.

SUMMARY: The Administration for Children and Families (ACF) is requesting a 3-year extension of the ACF-204: Annual Temporary Assistance for Needy Families (TANF) and State Maintenance-of-Effort (MOE) Report (Office of Management and Budget (OMB) #: 0970-0248, expiration March 31, 2026). There are no substantive changes requested to the form but instructions have been updated and burden estimates adjusted.

DATES: Comments due March 23, 2026.

ADDRESSES: In compliance with the requirements of the Paperwork Reduction Act of 1995, ACF is soliciting public comment on the specific aspects of the information collection described above. You can obtain copies of the proposed collection of information and submit comments by emailing infocollection@acf.hhs.gov. Identify all requests by the title of the information collection.

SUPPLEMENTARY INFORMATION:

Description: The Annual TANF and MOE Report is used to collect descriptive program characteristics information on the programs operated by states and territories in association with their TANF programs. All state and territory expenditures claimed toward states and territories MOE requirements must be appropriate, i.e., meet all applicable MOE requirements. The Annual TANF and MOE Report provides the ability to learn about and to monitor the nature of state and territory expenditures used to meet states and territories MOE requirements, and it is an important source of information about the different ways that states and territories are using their resources to help families attain and maintain self-sufficiency. In addition, the report is used to obtain state and territory program characteristics for ACF's annual report to Congress, and the report serves as a useful resource to use in Congressional hearings about how TANF programs are evolving, in assessing state and territory MOE expenditures, and in assessing the need for legislative changes. This information collection will support administration and agency priorities to enhance oversight mechanisms and reinforce accountability across programs. Further, this information collection addresses a recommendation issued by the U.S. Government Accountability Office (GAO) in its final report, GAO-25-107235, that the Secretary of the Department of Health and Human Services should ensure ACF conducts a review of all TANF reporting requirements and forms and make appropriate changes within its statutory authority to enhance reporting for oversight of TANF funds. The Annual TANF and MOE Report requires states to relate each TANF and MOE benefit or service program to the third and fourth statutory purposes of TANF, which is responsive to GAO's recommendation and aligns with the agency's values of program integrity and fiscal stewardship. This request includes clarifications within instructions, a reduction in burden hours, and a change in collection title to better reflect the content of the collection.

Respondents: The 50 States of the U.S., the District of Columbia, Guam, Puerto Rico, and the Virgin Islands.

Annual Burden Estimates: ACF proposes a 32 percent reduction in estimated average time per response to reflect the intent of existing regulations. 45 CFR 265.9(d) indicates that states that have already incorporated the information required in their TANF State Plan may meet the annual reporting requirements by reference in lieu of completing a re-submission of a particular data element. If the information in the annual report has not changed since the previous annual report, the state may reference this information in lieu of re-submission of a particular data element. Instructions have been updated to make clear both opportunities to reference in lieu of re-submission.

Instrument | Total number of respondents | Annual number of responses per respondent | Average burden hours per response | Annual burden hours
ACF-204; Annual TANF and MOE Report | 54 | 1 | 80 | 4,320

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Authority: 42 U.S.C. 602 and 611; the Personal Responsibility and Work Opportunity Reconciliation Act of 1996, Public Law 104-193, 110 Stat. 2105.

Mary C. Jones,
ACF/OPRE Certifying Officer.

[FR Doc. 2026-00970 Filed 1-16-26; 8:45 am]

BILLING CODE 4184-82-P